DEPARTMENT OF TRANSPORTATION

National Highway Traffic Safety Administration

49 CFR Part 541

[Docket No. NHTSA-17359]

RIN 2127-AJ27

Preliminary Theft Data; Motor Vehicle Theft Prevention Standard

AGENCY: National Highway Traffic Safety Administration (NHTSA), Department of Transportation.

ACTION: Publication of preliminary theft data; request for comments.

SUMMARY: This document requests comments on data about passenger motor vehicle thefts that occurred in calendar year (CY) 2002 including theft rates for existing passenger motor vehicle lines manufactured in model year (MY) 2002. The preliminary theft data indicate that the vehicle theft rate for CY/MY 2002 vehicles (2.49 thefts per thousand vehicles) decreased by 23.6 percent from the theft rate for CY/MY 2001 vehicles (3.26 thefts per thousand vehicles).

Publication of these data fulfills NHTSA's statutory obligation to periodically obtain accurate and timely theft data, and publish the information for review and comment.

DATES: Comments must be submitted on or before June 7, 2004.

ADDRESSES: You may submit comments [identified by DOT Docket No. NHTSA-2004-17359 and or RIN number 2127-AJ27] by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the online instructions for submitting comments.

Instructions: All submissions must include the agency name and docket number or Regulatory Identification Number (RIN) for this rulemaking. For detailed instructions on submitting comments and additional information on the rulemaking process, see the Public Participation heading of the SUPPLEMENTARY INFORMATION section of this document. Note that all comments received will be posted without change to http://dms.dot.gov including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: Ms. Deborah Mazyck, Office of International Policy, Fuel Economy and Consumer Programs, NHTSA, 400 Seventh Street, SW., Washington, DC 20590. Ms. Mazyck's telephone number is (202) 366-0846. Her fax number is (202) 493-2290.

SUPPLEMENTARY INFORMATION: NHTSA administers a program for reducing motor vehicle theft. The central feature of this program is the Federal Motor Vehicle Theft Prevention Standard, 49 CFR part 541. The standard specifies performance requirements for inscribing or affixing vehicle identification numbers (VINs) onto certain major original equipment and replacement parts of high-theft lines of passenger motor vehicles.

The agency is required by 49 U.S.C. 33104(b)(4) to periodically obtain, from the most reliable source, accurate and timely theft data, and publish the data for review and comment. To fulfill the section 33104(b)(4) mandate, this document reports the preliminary theft data for CY 2002, the most recent calendar year for which data are available.

In calculating the 2002 theft rates, NHTSA followed the same procedures it used in calculating the MY 2001 theft rates. (For 2001 theft data calculations, see 68 FR 54857, September 19, 2003). As in all previous reports, NHTSA's data were based on information provided to the agency by the National Crime Information Center (NCIC) of the Federal Bureau of Investigation. The NCIC is a governmental system that receives vehicle theft information from nearly 23,000 criminal justice agencies and other law enforcement authorities throughout the United States. The NCIC data also include reported thefts of self-insured and uninsured vehicles, not all of which are reported to other data sources. The 2002 theft rate for each vehicle line was calculated by dividing the number of reported thefts of MY 2002 vehicles of that line stolen during calendar year 2002, by the total number of vehicles in that line manufactured for MY 2002, as reported by manufacturers to the Environmental Protection Agency.

The preliminary 2002 theft data show a decrease in the vehicle theft rate when compared to the theft rate experienced in CY/MY 2001. The preliminary theft rate for MY 2002 passenger vehicles stolen in calendar year 2002 decreased to 2.49 thefts per thousand vehicles produced, a decrease of 23.6 percent from the rate of 3.26 thefts per thousand vehicles experienced by MY 2001 vehicles in CY 2001. For MY 2002 vehicles, out of a total of 224 vehicle lines, 38 lines had a theft rate higher than 3.5826 per thousand vehicles, the established median theft rate for MYs 1990/1991 (See 59 FR 12400, March 16, 1994). Of the 38 vehicle lines with a theft rate higher than 3.5826, 34 are passenger car lines, 3 are multipurpose passenger vehicle lines, and one is a light-duty truck lines.

In Table I, NHTSA has tentatively ranked each of the MY 2002 vehicle lines in descending order of theft rate. Public comment is sought on the accuracy of the data, including the data for the production volumes of individual vehicle lines.

Comments must not exceed 15 pages in length (49 CFR 553.21). Attachments may be appended to these submissions without regard to the 15 page limit. This limitation is intended to encourage commenters to detail their primary arguments in a concise fashion.

If a commenter wishes to submit certain information under a claim of confidentiality, three copies of the complete submission, including purportedly confidential business information, should be submitted to the Chief Counsel, NHTSA, at the street address given above, and two copies from which the purportedly confidential information has been deleted should be submitted to Dockets. A request for confidentiality should be accompanied by a cover letter setting forth the information specified in the agency's confidential business information regulation. 49 CFR part 512.

All comments received before the close of business on the comment closing date indicated above for this document will be considered, and will be available for examination in the docket at the above address both before and after that date. To the extent possible, comments filed after the closing date will also be considered. Comments on this document will be available for inspection in the docket. NHTSA will continue to file relevant information as it becomes available for inspection in the docket after the closing date, and it is recommended that interested persons continue to examine the docket for new material.

Those persons desiring to be notified upon receipt of their comments in the rules docket should enclose a self-addressed, stamped postcard in the envelope with their comments. Upon receiving the comments, the docket supervisor will return the postcard by mail.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Authority: 49 U.S.C. 33101, 33102 and 33104; delegation of authority at 49 CFR 1.50.

Preliminary Report of Theft Rates for 2002 Model Year Passenger Motor Vehicles Stolen in Calendar Year 2002
| Manufacturer | Make/model (line) | Thefts 2002 | Production (Mfr's) 2002 | 2002 Theft rate (per 1000 vehicles produced)
1 | DAIMLERCHRYSLER | CHRYSLER NEON¹ | 1 | 24 | 41.6667
2 | AUDI | 24/QUATTRO | 32 | 1612 | 19.8511
3 | DAIMLERCHRYSLER | DODGE INTREPID | 1657 | 111491 | 14.8622
4 | DAIMLERCHRYSLER | DODGE STRATUS | 1254 | 106771 | 11.7448
5 | SUZUKI | ESTEEM | 108 | 9670 | 11.1686
6 | DAIMLERCHRYSLER | CHRYSLER SEBRING | 611 | 75163 | 8.1290
7 | DAIMLERCHRYSLER | DODGE NEON | 959 | 119253 | 8.0417
8 | HONDA | ACURA NSX | 2 | 254 | 7.8740
9 | MITSUBISHI | MONTERO | 206 | 27266 | 7.5552
10 | MITSUBISHI | GALANT | 668 | 92948 | 7.1868
11 | MITSUBISHI | MIRAGE | 60 | 9240 | 6.4935
12 | MITSUBISHI | MONTERO SPORT | 350 | 57457 | 6.0915
13 | FORD MOTOR CO | FORD F150 PICKUP | 27 | 4473 | 6.0362
14 | AUDI | S8/QUATTRO | 2 | 340 | 5.8824
15 | MITSUBISHI | ECLIPSE | 239 | 41334 | 5.7822
16 | NISSAN | MAXIMA | 490 | 86036 | 5.6953
17 | KIA MOTORS | OPTIMA | 155 | 27593 | 5.6174
18 | FORD MOTOR CO | FORD ESCORT | 457 | 81672 | 5.5956
19 | GENERAL MOTORS | PONTIAC GRANT AM | 838 | 154306 | 5.4308
20 | DAIMLERCHRYSLER | CHRYSLER SEBRING CONVERTIBLE | 251 | 46637 | 5.3820
21 | MITSUBISHI | LANCER | 397 | 73991 | 5.3655
22 | DAIMLERCHRYSLER | CHRYSLER CONCORDE | 194 | 37131 | 5.2247
23 | MITSUBISHI | DIAMANTE | 96 | 19707 | 4.8714
24 | DAIMLERCHRYSLER | CHRYSLER INTREPID | 6 | 1254 | 4.7847
25 | TOYOTA | COROLLA | 690 | 147983 | 4.6627
26 | DAIMLERCHRYSLER | CHRYSLER 300M | 167 | 36663 | 4.5550
27 | GENERAL MOTORS | OLDSMOBILE ALERO | 333 | 79373 | 4.1954
28 | KIA MOTORS | SPECTRA | 298 | 71837 | 4.1483
29 | KIA MOTORS | RIO | 227 | 57292 | 3.9622
30 | GENERAL MOTORS | CHEVROLET CAVALIER | 1017 | 259230 | 3.9232
31 | TOYOTA | LEXUS IS | 93 | 24079 | 3.8623
32 | GENERAL MOTORS | CADILLAC SEVILLE | 97 | 25128 | 3.8602
33 | SUZUKI | VITARA/GRAND | 232 | 60318 | 3.8463
34 | NISSAN | SENTRA | 434 | 113962 | 3.8083
35 | GENERAL MOTORS | PONTIAC SUNFIRE | 286 | 76445 | 3.7413
36 | DAIMLERCHRYSLER | CHRYSLER PROWLER | 5 | 1348 | 3.7092
37 | GENERAL MOTORS | CHEVROLET MONTE CARLO | 252 | 68570 | 3.6751
38 | FORD MOTOR CO | LINCOLN TOWN CAR | 132 | 36635 | 3.6031
39 | GENERAL MOTORS | CHEVROLET BLAZER S10/T10 | 369 | 103341 | 3.5707
40 | GENERAL MOTORS | CHEVROLET MALIBU | 495 | 144946 | 3.4151
41 | GENERAL MOTORS | CHEVROLET PRIZM | 96 | 28197 | 3.4046
42 | NISSAN | ALTIMA | 651 | 192701 | 3.3783
43 | HYUNDAI | ACCENT | 307 | 92157 | 3.3313
44 | JAGUAR | XK8 | 8 | 2455 | 3.2587
45 | MERCEDES-BENZ | 129 (SL-CLASS) | 9 | 2776 | 3.2421
46 | NISSAN | INFINITI Q45 | 26 | 8065 | 3.2238
47 | MAZDA | MILLENIA | 67 | 20800 | 3.2212
48 | DAIMLERCHRYSLER | DODGE CARAVAN/GRAND | 772 | 241696 | 3.1941
49 | ISUZU | TROOPER | 40 | 12638 | 3.1651
50 | GENERAL MOTORS | OLDSMOBILE AURORA | 34 | 10861 | 3.1305
51 | JAGUAR | S-TYPE | 38 | 12319 | 3.0847
52 | TOYOTA | CELICA | 79 | 25683 | 3.0760
53 | FORD MOTOR CO | MERCURY SABLE | 322 | 105415 | 3.0546
54 | GENERAL MOTORS | PONTIAC GRAND PRIX | 434 | 144654 | 3.0003
55 | GENERAL MOTORS | CHEVROLET CAMARO | 121 | 40383 | 2.9963
56 | FORD MOTOR CO | FORD FOCUS | 753 | 252987 | 2.9764
57 | FORD MOTOR CO | LINCOLN LS | 153 | 51704 | 2.9592
58 | GENERAL MOTORS | CHEVROLET CORVETTE | 99 | 33586 | 2.9477
59 | DAEWOOD | LANOS | 19 | 6452 | 2.9448
60 | DAIMLER CHRYSLER | CHRYSLER VOYAGER | 120 | 41348 | 2.9022
61 | HYUNDAI | SONATA | 225 | 80049 | 2.8108
62 | BMW | 7 | 50 | 18222 | 2.7439
63 | GENERAL MOTORS | PONTIAC FIREBIRD/FORMULA | 81 | 29687 | 2.7285
64 | FORD MOTOR CO | FORD TAURUS | 842 | 321556 | 2.6185
65 | FORD MOTOR CO | MERCURY MOUNTAINEER | 196 | 77787 | 2.5197
66 | DAIMLER CHRYSLER | JEEP CHEROKEE/GRAND | 533 | 211786 | 2.5167
67 | HYUNDAI | ELANTRA | 299 | 118962 | 2.5134
68 | JAGUAR | XKR | 4 | 1595 | 2.5078
69 | HONDA | PASSPORT | 15 | 5999 | 2.5004
70 | TOYOTA | TUNDRA PICKUP | 66 | 26442 | 2.4960
71 | GENERAL MOTORS | BUICK REGAL | 95 | 39124 | 2.4282
72 | NISSAN | INFINITI G20 | 31 | 12788 | 2.4241
73 | TOYOTA | 4RUNNER | 205 | 85126 | 2.4082
74 | GENERAL MOTORS | OLDSMOBILE INTRIGUE | 60 | 25008 | 2.3992
75 | TOYOTA | LEXUS SC | 61 | 25683 | 2.3751
76 | GENERAL MOTORS | BUICK CENTURY | 331 | 141818 | 2.3340
77 | FORD MOTOR CO | MERCURY GRAND MARQUIS | 146 | 62648 | 2.3305
78 | FORD MOTOR CO | FORD EXPLORER | 1419 | 610268 | 2.3252
79 | NISSAN | XTERRA | 231 | 99887 | 2.3126
80 | MAZDA | 626 | 113 | 49181 | 2.2976
81 | GENERAL MOTORS | CADILLAC DEVILLE | 209 | 91057 | 2.2953
82 | SUZUKI | AERIO | 31 | 13666 | 2.2684
83 | HONDA | ACURA 3.2 CL | 13 | 5749 | 2.2613
84 | GENERAL MOTORS | SATURN LS | 191 | 84966 | 2.2480
85 | MAZDA | PROTEGE | 219 | 97882 | 2.2374
86 | DAIMLER CHRYSLER | CHRYSLER PT CRUISER | 377 | 169559 | 2.2234
87 | HONDA | ACURA INTEGRA | 95 | 42809 | 2.2192
88 | TOYOTA | RAV4 | 212 | 96489 | 2.1971
89 | ISUZU | AXIOM | 40 | 18280 | 2.1882
90 | TOYOTA | CAMRY/SOLARA | 1027 | 472030 | 2.1757
91 | MERCEDES-BENZ | 208 (CLK-CLASS) | 43 | 20199 | 2.1288
92 | JAGUAR | XJ8 | 5 | 2354 | 2.1240
93 | FORD MOTOR CO. | FORD RANGER PICKUP | 499 | 238558 | 2.0917
94 | KIA MOTORS | SPORTAGE | 97 | 46883 | 2.0690
95 | DAIMLERCHRYSLER | JEEP LIBERTY | 429 | 207991 | 2.0626
96 | DAEWOO | NUBIRA | 11 | 5351 | 2.0557
97 | GENERAL MOTORS | PONTIAC BONNEVILLE | 87 | 42664 | 2.0392
98 | VOLVO | C70 | 7 | 3454 | 2.0266
99 | HYUNDAI | XG | 38 | 18842 | 2.0168
100 | TOYOTA | ECHO | 65 | 32495 | 2.0003
101 | DAIMLERCHRYSLER | JEEP WRANGLER | 133 | 66565 | 1.9980
102 | NISSAN | FRONTIER PICKUP | 181 | 90964 | 1.9898
103 | GENERAL MOTORS | CADILLAC ELDORADO | 14 | 7047 | 1.9867
104 | MERCEDES-BENZ | 215 (CL-CLASS) | 10 | 5062 | 1.9755
105 | MERCEDES-BENZ | 220 (S-CLASS) | 53 | 26918 | 1.9689
106 | DAEWOO | LEGANZA | 11 | 5593 | 1.9667
107 | TOYOTA | TACOMA PICKUP | 315 | 162322 | 1.9406
108 | GENERAL MOTORS | CHEVROLET TRACKER | 88 | 45793 | 1.9217
109 | BMW | 3 | 192 | 102574 | 1.8718
110 | GENERAL MOTORS | CHEVROLET IMPALA | 375 | 201467 | 1.8613
111 | TOYOTA | LEXUS LS | 50 | 27162 | 1.8408
112 | FORD MOTOR CO | FORD ESCAPE | 291 | 159322 | 1.8265
113 | NISSAN | INFINITI QX4 | 29 | 15943 | 1.8190
114 | SUBARU | IMPREZA | 108 | 59391 | 1.8185
115 | NISSAN | PATHFINDER | 107 | 59409 | 1.8011
116 | GENERAL MOTORS | CHEVROLET S10/T10 PICKUP | 251 | 139521 | 1.7990
117 | MAZDA | B-SERIES PICKUP | 40 | 22275 | 1.7957
118 | VOLKSWAGEN | GOLF-GTI | 55 | 31640 | 1.7383
119 | GENERAL MOTORS | CHEVROLET ASTRO VAN | 67 | 39246 | 1.7072
120 | HONDA | S2000 | 17 | 10049 | 1.6917
121 | GENERAL MOTORS | GMC SONOMA PICKUP | 66 | 39292 | 1.6797
122 | HONDA | ACCORD | 702 | 419398 | 1.6738
123 | VOLVO | S40 | 23 | 13980 | 1.6452
124 | MAZDA | MX-5 MIATA | 22 | 13544 | 1.6243
125 | VOLVO | S80 | 25 | 15851 | 1.5772
126 | HONDA | ACURA 3.2 TL | 95 | 60860 | 1.5610
127 | ISUZU | RODEO | 65 | 41996 | 1.5478
128 | DAIMLERCHRYSLER | CHRYSLER TOWN & COUNTRY MPV | 202 | 130937 | 1.5427
129 | HONDA | CIVIC | 500 | 329778 | 1.5162
130 | JAGUAR | VANDEN PLAS/SUPER V8 | 3 | 1981 | 1.5144
131 | MERCEDES-BENZ | 170 (SLK-CLASS) | 12 | 7954 | 1.5087
132 | VOLKSWAGEN | JETTA | 218 | 144790 | 1.5056
133 | GENERAL MOTORS | SATURN SL | 221 | 148514 | 1.4881
134 | GENERAL MOTORS | CHEVROLET TRAILBLAZER | 375 | 253249 | 1.4808
135 | FORD MOTOR CO | MERCURY COUGAR | 35 | 24485 | 1.4294
136 | AUDI | TT/QUATTRO | 14 | 9812 | 1.4268
137 | FORD MOTOR CO | FORD CROWN VICTORIA | 32 | 22564 | 1.4182
138 | PORSCHE | 911 | 17 | 12034 | 1.4127
139 | TOYOTA | LEXUS GS | 25 | 17863 | 1.3995
140 | FORD MOTOR CO | FORD WINDSTAR VAN | 204 | 146274 | 1.3946
141 | GENERAL MOTORS | BUICK PARK AVENUE | 42 | 31913 | 1.3161
142 | NISSAN | INFINITI 135 | 40 | 30604 | 1.3070
143 | PORSCHE | BOXSTER | 13 | 9975 | 1.3033
144 | BMW | 5 | 51 | 39445 | 1.2929
145 | MERCEDES-BENZ | 203 (C-CLASS) | 91 | 70688 | 1.2873
146 | VOLKSWAGEN | EUROVAN/CAMPER | 7 | 5472 | 1.2792
147 | JAGUAR | X-TYPE | 44 | 35659 | 1.2339
148 | HYUNDAI | SANTA FE | 99 | 82824 | 1.1953
149 | VOLVO | S60 | 48 | 40884 | 1.1741
150 | JAGUAR | XJR | 1 | 853 | 1.1723
151 | TOYOTA | MR2 SPYDER | 6 | 5335 | 1.1246
152 | VOLVO | V40 | 3 | 2680 | 1.1194
153 | GENERAL MOTORS | PONTIAC AZTEK | 20 | 17886 | 1.1182
154 | AUDI | A4/QUATTRO | 41 | 36870 | 1.1120
155 | GENERAL MOTORS | SATURN SC | 48 | 43213 | 1.1108
156 | SAAB | 9-3 | 20 | 18055 | 1.1077
157 | VOLKSWAGEN | CABRIO | 13 | 11749 | 1.1065
158 | GENERAL MOTORS | BUICK LESABRE | 148 | 137737 | 1.0745
159 | KIA MOTORS | SEDONA VAN | 53 | 49731 | 1.0657
160 | VOLKSWAGEN | PASSAT | 99 | 93812 | 1.0553
161 | GENERAL MOTORS | GMC ENVOY | 112 | 108650 | 1.0308
162 | MERCEDES-BENZ | 210 (E-CLASS) | 310 | 30368 | 1.0208
163 | TOYOTA | AVALON | 69 | 67772 | 1.0181
164 | TOYOTA | PRIUS | 23 | 22737 | 1.0116
165 | FORD MOTOR CO | LINCOLN CONTINENTAL | 19 | 18804 | 1.0104
166 | VOLKSWAGEN | NEW BEETLE | 56 | 56045 | 0.9992
167 | TOYOTA | SIENNA VAN | 82 | 85417 | 0.9600
168 | NISSAN | QUEST VAN | 20 | 21099 | 0.9479
169 | TOYOTA | LEXUS RX | 69 | 73049 | 0.9446
170 | LAND ROVER | FREELANDER | 15 | 16268 | 0.9221
171 | GENERAL MOTORS | GMC SAFARA VAN | 9 | 9887 | 0.9103
172 | FORD MOTOR CO | FORD MUSTANG | 705 | 775153 | 0.9095
173 | MAZDA | TRIBUTE | 45 | 49561 | 0.9080
174 | GENERAL MOTORS | OLDSMOBILE BRAVADA | 25 | 28658 | 0.8724
175 | HONDA | ACURA 3.5 RL | 14 | 16449 | 0.8511
176 | GENERAL MOTORS | BUICK RENDEZVOUS | 66 | 7573 | 0.8508
177 | GENERAL MOTORS | CHEVROLET VENTURE VAN | 71 | 84116 | 0.8441
178 | TOYOTA | HIGHLANDER | 90 | 110530 | 0.8143
179 | TOYOTA | LEXUS ES | 57 | 70517 | 0.8083
180 | GENERAL MOTORS | PONTIAC MONTANA VAN | 35 | 45558 | 0.7683
181 | VOLVO | V70 | 9 | 12144 | 0.7411
182 | HONDA | ACURA MDX | 36 | 48998 | 0.7347
183 | DAIMLERCHRYSLER | DODGE DAKOTA PICKUP | 106 | 145238 | 0.7298
184 | SUBARU | FORESTER | 39 | 55114 | 0.7076
185 | QUANTUM TECH | CHEVROLET CAVALIER | 1 | 1483 | 0.6743
186 | AUDI | A6/QUATTRO | 14 | 21328 | 0.6564
187 | FORD MOTOR CO | MERCURY VILLAGER VAN | 12 | 18364 | 0.6535
188 | GENERAL MOTORS | SATURN VUE | 21 | 34578 | 0.6073
189 | SUBARU | LEGACY/OUTBACK | 47 | 88790 | 0.5293
190 | MAZDA | MPV VAN | 13 | 25122 | 0.5175
191 | HONDA | INSIGHT | 1 | 2006 | 0.4985
192 | FORD MOTOR CO | FORD THUNDERBIRD | 14 | 28639 | 0.4888
193 | BMW | MINI COOPER | 8 | 17033 | 0.4697
194 | GENERAL MOTORS | OLDSMOBILE SILHOUETTE VAN | 11 | 23863 | 0.4610
195 | HONDA | CR-V | 62 | 138061 | 0.4491
196 | BMW | M/Z3 | 8 | 18768 | 0.4263
197 | SAAB | 9-5 | 6 | 15339 | 0.3912
198 | HONDA | ODYSSEY VAN | 58 | 148857 | 0.3896
199 | VOLVO | XC | 8 | 20725 | 0.3860
200 | GENERAL MOTORS | SATURN LW | 4 | 11273 | 0.3548
201 | FORD MOTOR CO | FORD THINK NEIGHBOR | 2 | 6613 | 0.3024
202 | ASTON MARTIN | VANQUISH | 0 | 127 | 0.0000
203 | ASTON MARTIN | VANTAGE | 0 | 265 | 0.0000
204 | AUDI | A8/QUATRRO/L | 0 | 672 | 0.0000
205 | AUDI | ALLROAD/QUATTRO | 0 | 5085 | 0.0000
206 | AUDI | S6/AVANT | 0 | 884 | 0.0000
207 | BMW | Z8 | 0 | 687 | 0.0000
208 | DAIMLERCHRYSLER | DODGE VIPER | 0 | 1355 | 0.0000
209 | FERRARI | 360 | 0 | 684 | 0.0000
210 | FERRARI | 456 | 0 | 20 | 0.0000
211 | FERRARI | 575 | 0 | 208 | 0.0000
212 | GENERAL MOTORS | FUNERAL COACH/HEARSE | 0 | 1907 | 0.0000
213 | JAGUAR | XJS | 0 | 1000 | 0.0000
214 | LAMBORGHINI | MURCIELAGO | 0 | 98 | 0.0000
215 | LOTUS | ESPRIT | 0 | 100 | 0.0000
216 | MASERATI | COUPE/SPIDER | 0 | 492 | 0.0000
217 | MITSUBISHI | NATIVA ² | 0 | 1513 | 0.0000
218 | ROLLS ROYCE | PARK WARD | 0 | 12 | 0.0000
219 | ROLLS ROYCE | SILVER SERAPH | 0 | 63 | 0.0000
220 | ROLLS-ROYCE | BENTLEY ARNAGE | 0 | 139 | 0.0000
221 | ROLLS-ROYCE | BENTLEY AZURE | 0 | 101 | 0.0000
222 | ROLLS-ROYCE | BENTLEY CONTINENTAL R | 0 | 31 | 0.0000
223 | ROLLS-ROYCE | BENTLEY CONTINENTAL T | 0 | 2 | 0.0000
224 | ROLLS-ROYCE | BENTLEY CORNICHE | 0 | 37 | 0.0000
¹ This vehicle was manufactured under the Chrysler nameplate for sale in a U.S. Territory only (Guam, American Samoa, Puerto Rico) and the Virgin Islands (St. Thomas and St. Croix).
²This vehicle was manufactured for sale only in Puerto Rico and represents the U.S. version of the Montero Sport line.

Issued on: April 1, 2004.
Stephen R. Fratzke,
Associate Administrator for Rulemaking.

[FR Doc. 04-7793 Filed 4-5-04; 8:45 am]

BILLING CODE 4910-59-P